DEPARTMENT OF TRANSPORTATION

Federal Aviation Administration

Notice of Availability, Notice of Public Comment Period, Notice of Public Meetings, and Request for Comment on the Draft Environmental Impact Statement for the SpaceX Starship-Super Heavy Vehicle at Launch Complex 39A (LC-39A), at Kennedy Space Center (KSC) in Merritt Island, Florida

AGENCY: Federal Aviation Administration (FAA), Department of Transportation.

ACTION: Notice of availability, public comment period, and public meetings.

SUMMARY: In accordance with the National Environmental Policy Act of 1969, as amended (NEPA) and FAA Order 1050.1F, Environmental Impacts: Policies and Procedures, the FAA is announcing the availability of and requesting comment on the Draft Environmental Impact Statement for SpaceX Starship—Super Heavy Vehicle operations at Launch Complex 39A at Kennedy Space Center in Merritt Island, Florida (Draft EIS).

DATES: The FAA will hold four in-person meetings and one virtual meeting. The four in-person public meetings will be held on the following dates:

Tuesday, August 26, 2025; two meetings: 1:00 p.m.-3:00 p.m. and 6:00 p.m.-8:00 p.m. ET; Astronauts Memorial Foundation, Center for Space Education, Conference Center, State Road 405, Kennedy Space Center, FL 32899

Thursday, August 28, 2025; two meetings: 1:00 p.m.-3:00 p.m. and 6:00 p.m.-8:00 p.m. ET; Radisson Conference Center, Grande Caribbean, 8701 Astronaut Boulevard, Cape Canaveral, FL 32920

One virtual public meeting will be held on the following date and time:

Wednesday, September 3, 2025; 6:00 p.m.-8:00 p.m. ET

Interested parties must register to join the virtual public meeting. Registration is now available at the link in ADDRESSES.

The public comment period for the Draft EIS will close on September 22, 2025.

ADDRESSES: The Draft EIS is available for public review at https://www.faa.gov/space/stakeholder_engagement/spacex_starship_ksc. The Draft EIS has been posted and comments will be received through the Federal E-Rulemaking Portal: https://www.regulations.gov. Search for “FAA-2024-1395” to retrieve the docket and follow the instructions to submit a comment.

The FAA invites interested parties to submit comments on the Draft EIS. Public comments can be submitted electronically to www.regulations.gov under Docket No. FAA-2024-1395, by postal mail to Ms. Eva Long, FAA Environmental Protection Specialist, c/o Leidos, 2877 Guardian Lane Virginia Beach, VA 23452 or delivered in written or oral form at a public meeting. Oral public comments during the in-person and virtual public meetings will be limited to three minutes. Members of the public will have three minutes to provide oral comments to a court reporter who will transcribe the comment for the record.

• Virtual Public Meeting Registration Link: https://us02web.zoom.us/webinar/register/WN_2aotlSQERXCHC5yJjOvm5A.

Dial-in phone number: 888-788-0099 (Toll Free), Webinar ID: 892 9206 9685, Passcode: 095859.

SUPPLEMENTARY INFORMATION:

The Draft EIS analyzes:

• Up to 44 Starship—Super Heavy launches per year;

• Up to 44 Super Heavy landings per year, to include landings at LC-39A, landing on a droneship in the Atlantic Ocean, or expending in the Atlantic Ocean;

• Up to 44 Starship landings per year, to include landings at LC-39A, landing on a droneship in the Atlantic Ocean, or soft-water or hard-water landing with expending or recovery in the Atlantic Ocean, Pacific Ocean, or Indian Ocean;

• Construction of launch, landing, and other associated infrastructure at and in proximity to LC-39A.

The FAA will present a pre-recorded presentation during the first half hour of the public meetings.

If any accommodation for the public meetings is needed (such as translation services), please submit a request by August 14, 2025, to SpaceXStarship39AEIS@icf.com.

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final EIS.

Issued in Washington, DC, on August 4, 2025.
Stacey Molinich Zee,
Manager, Operations Support Branch.

[FR Doc. 2025-14888 Filed 8-5-25; 8:45 am]

BILLING CODE 4910-13-P